NUCLEAR REGULATORY COMMISSION

Sunshine Federal Register Notice

AGENCY HOLDING THE MEETINGS: Nuclear Regulatory Commission.

DATES: Week of August 10, 2009.

PLACE: Commissioners' Conference Room, 11555 Rockville Pike, Rockville, Maryland.

STATUS: Public and closed.

Additional Items to be considered:

Week of August 10, 2009

Thursday, August 13, 2009

1:25 p.m.

Affirmation Session (Public Meeting) (Tentative).

Pa'ina Hawaii, LLC (Materials License Application)—Applicant's Motion to Transfer Case to the Commission (Tentative).

*The schedule for Commission meetings is subject to change on short notice. To verify the status of meetings, call (recording)—(301) 415-1292. Contact person for more information: Rochelle Bavol, (301) 415-1651.

Additional Information

By a vote of 3-0 on August 11, 2009, the Commission determined pursuant to U.S.C. 552b(e) and § 9.107(a) of the Commission's rules that Affirmation of Pa'ina Hawaii, LLC (Materials License Application)—Applicant's Motion to Transfer Case to the Commission (Tentative) be held August 13, 2009, and on less than one week's notice to the public.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g., braille, large print), please notify the NRC's Disability Program Coordinator, Rohn Brown, at 301-492-2279, TDD: 301-415-2100, or by e-mail at rohn.brown@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: August 12, 2009.
Rochelle C. Bavol,
Office of the Secretary.

[FR Doc. E9-19746 Filed 8-13-09; 4:15 pm]

BILLING CODE 7590-01-P